DEPARTMENT OF DEFENSE

Department of the Navy

32 CFR Part 776

RIN 0703-AA70

Professional Conduct of Attorneys Practicing Under the Cognizance and Supervision of the Judge Advocate General

AGENCY: Department of the Navy, DOD.

ACTION: Final rule.

SUMMARY: This final rule amends regulations concerning the professional conduct of attorneys practicing law under the cognizance and supervision of the Judge Advocate General of the Navy by incorporating several changes and revising the regulations. This revision will ensure the professional supervision of judge advocates, military trial and appellate military judges, and other lawyers who practice in Department of the Navy proceedings and other legal programs.

DATES: Effective November 21, 2002.

FOR FURTHER INFORMATION CONTACT: LCDR Jason Baltimore, Legislation and Regulations Branch, Administrative Law Division (Code 13), Office of the Judge Advocate General, 1322 Patterson Avenue, SE., Suite 3000, Washington Navy Yard, Washington, DC 20374-5066, (703) 604-8208.

SUPPLEMENTARY INFORMATION: This part establishes policy, assigns responsibilities, and prescribes procedures for attorneys practicing law under the supervision of the Judge Advocate General (JAG) for relations with non-DOD civilian counsel, petitions for outside law practice of naval service attorneys, and a description of the complaint processing procedure. This part ensures that attorneys practicing law under the supervision of the JAG will be provided with rules of professional conduct with which they must comply in order to remain in “good standing.”

Although the rules of professional conduct do not apply to non-lawyers, they do define the type of ethic conduct that the public and the military community have a right to expect not only of lawyers but also of their non-lawyer employees. It has been determined that invitation of public comment on these changes to the JAG's Instruction prior to adoption would be impractical and unnecessary, and is therefore not required under the public rule-making provisions of 32 CFR parts 336 and 701. However, interested persons are invited to comment in writing. Written comments received will be considered in making amendments or revisions to 32 CFR 776 or the JAG Instruction 5803.1 series upon which it is derived. It has been determined that this final rule is not a major rule within the criteria specified in Executive Order 12291 and does not have substantial impact on the public. This submission is a statement of policy and as such can be effective upon publication in the Federal Register.

Matters of Regulatory Procedure

Executive Order 12866, Regulatory Planning and Review

This rule does not meet the definition of “significant regulatory action” for purposes of E.O. 12866.

Regulatory Flexibility Act

This rule will not have a significant economic impact on a substantial number of small entities for purposes of the Regulatory Flexibility Act (5 U.S.C. chapter 6).

Paperwork Reduction Act

This rule does not impose collection of information requirements for purposes of the Paperwork Reduction Act (44 U.S.C. chapter 35, 5 CFR part 1320).

List of Subjects in 32 CFR Part 776

Conflict of interests, Lawyers, Legal services, Reporting and recordkeeping requirements.

For the reasons set forth in the preamble, the Department of the Navy amends 32 CFR part 776 as follows:

PART 776—PROFESSIONAL CONDUCT OF ATTORNEYS PRACTICING UNDER THE COGNIZANCE AND SUPERVISION OF THE JUDGE ADVOCATE GENERAL

1. Section 776.20 is revised to read as follows:

§ 776.20 Competence.

(a) Competence. A covered attorney shall provide competent, diligent, and prompt representation to a client. Competent representation requires the legal knowledge, skill, access to evidence, thoroughness, and expeditious preparation reasonably necessary for representation. Initial determinations as to competence of a covered USG attorney for a particular assignment shall be made by a supervising attorney before case or issue assignments; however, assigned attorneys may consult with supervisors concerning competence in a particular case.

(b) [Reserved]

2. Section 776.53 is amended by revising paragraph (a)(4) to read as follows:

§ 776.53 Responsibilities of the Judge Advocate General and supervisory attorneys.

(a) * * *

(4) A supervisory attorney is responsible for ensuring that the subordinate covered attorney is properly trained, is competent to perform the duties and has all appropriate credentials, including security clearances, to perform the duties to which the subordinate covered attorney is assigned.

J.T. Baltimore,
Lieutenant Commander, Judge Advocate General's Corps, U.S. Navy, Alternate Federal Register Liaison Officer.

[FR Doc. 02-29566 Filed 11-20-02; 8:45 am]

BILLING CODE 3810-FF-P